DEPARTMENT OF COMMERCE

National Oceanic and Atmospheric Administration

RIN 0648-XA755

Marine Fisheries Advisory Committee Meeting

AGENCY: National Marine Fisheries Service (NMFS), National Oceanic and Atmospheric Administration (NOAA), Commerce.

ACTION: Notice of open public meeting.

SUMMARY: This notice sets forth the schedule and proposed agenda of a forthcoming meeting of the Marine Fisheries Advisory Committee (MAFAC). The members will discuss and provide advice on issues outlined under SUPPLEMENTARY INFORMATION below.

DATES: The meeting will be held October 25-27, 2011, from 8:30 a.m. to 5 p.m.

ADDRESSES: The meeting will be held at the Hyatt Regency on Capitol Hill, 400 New Jersey Avenue, NW., Washington, DC 20001; 202-737-1234.

FOR FURTHER INFORMATION CONTACT: Mark Holliday, MAFAC Executive Director; (301) 427-8004; e-mail: Mark.Holliday@noaa.gov.

SUPPLEMENTARY INFORMATION: As required by section 10(a)(2) of the Federal Advisory Committee Act, 5 U.S.C. App. 2, notice is hereby given of a meeting of MAFAC. The MAFAC was established by the Secretary of Commerce (Secretary), and, since 1971, advises the Secretary on all living marine resource matters that are the responsibility of the Department of Commerce. The complete charter and summaries of prior meetings are located online at http://www.nmfs.noaa.gov/ocs/mafac/.

Matters To Be Considered

This agenda is subject to change.

The meeting is convened to hear presentations and discuss policies and guidance on the following topics: NMFS habitat blueprint, blue carbon initiatives, climate adaptation, NOAA Caribbean strategy, recreational fisheries regional action plans, and implementation of the Commerce and NOAA national aquaculture policies. Updates will be presented on National Ocean Policy implementation, coastal and marine spatial planning, and use of the Multipurpose Marine Cadastre; NOAA budgets; and outlooks for 2012 regulatory and science activities. The meeting will include discussion of various MAFAC administrative and organizational matters and meetings of the standing subcommittees.

Special Accommodations

These meetings are physically accessible to people with disabilities. Requests for sign language interpretation or other auxiliary aids should be directed to Mark Holliday, MAFAC Executive Director; 301-427-8004 by October 14, 2011.

Dated: October 4, 2011.
Samuel D. Rauch III,
Deputy Assistant Administrator for Regulatory Programs, National Marine Fisheries Service.

[FR Doc. 2011-26020 Filed 10-6-11; 8:45 am]

BILLING CODE 3510-22-P